NUCLEAR REGULATORY COMMISSION

[Docket Nos. 50-220 and 50-410]

Nine Mile Point Nuclear Station, LLC; Nine Mile Point Nuclear Station, Units 1 and 2; Notice of Availability of the Final Supplement 24 to the Generic Environmental Impact Statement for License Renewal of Nuclear Plants, Regarding the License Renewal of Nine Mile Point Nuclear Station

Notice is hereby given that the U.S. Nuclear Regulatory Commission (NRC, or the Commission) has published a final plant-specific supplement to the “Generic Environmental Impact Statement for License Renewal of Nuclear Plants (GEIS),” NUREG-1437, regarding the renewal of operating licenses DPR-63 and NPF-69 for an additional 20 years of operation for the Nine Mile Point Nuclear Station, Units 1 and 2 (Nine Mile Point). Nine Mile Point is located in northern New York on the shore of Lake Ontario, approximately five miles northeast of Oswego, New York, 36 miles north-northwest of Syracuse, New York, and 65 miles east of Rochester, New York. Possible alternatives to the proposed action (license renewal) include no action and reasonable alternative energy sources.

As discussed in Section 9.3 of the final Supplement 24, based on: (1) The analysis and findings in the GEIS; (2) the Environmental Report submitted by Nine Mile Point Nuclear Station, LLC; (3) consultation with Federal, State, and local agencies; (4) the staff's own independent review; and (5) the staff's consideration of public comments, the recommendation of the staff is that the Commission determine that the adverse environmental impacts of license renewal for Nine Mile Point are not so great that preserving the option of license renewal for energy-planning decision makers would be unreasonable.

The final Supplement 24 to the GEIS is publicly available at the NRC Public Document Room (PDR), located at One White Flint North, 11555 Rockville Pike, Rockville, Maryland, 20852, or from the NRC's Agencywide Documents Access and Management System (ADAMS). The ADAMS Public Electronic Reading Room is accessible at http://adamswebsearch.nrc.gov/dologin.htm. The Accession Number for the final Supplement 24 to the GEIS is ML061290310. Persons who do not have access to ADAMS, or who encounter problems in accessing the documents located in ADAMS, should contact the NRC's PDR reference staff by telephone at 1-800-397-4209, or 301-415-4737, or by e-mail at pdr@nrc.gov. In addition, the Penfield Library, located at State University of New York, Oswego, New York, 13126, has agreed to make the final Supplement 24 to the GEIS available for public inspection.

FOR FURTHER INFORMATION, CONTACT: Mr. Samuel Hernandez, Environmental Branch B, Division of License Renewal, Office of Nuclear Reactor Regulation, U.S. Nuclear Regulatory Commission, Washington, DC 20555-0001. Mr. Hernandez may be contacted by telephone at 1-800-368-5642, extension 4049 or via e-mail at SHQ@nrc.gov.

Dated at Rockville, Maryland, this 16th day of May, 2006.
For the Nuclear Regulatory Commission.
Michael Masnik,
Acting Branch Chief, Environmental Branch B, Division of License Renewal, Office of Nuclear Reactor Regulation.

[FR Doc. E6-8037 Filed 5-24-06; 8:45 am]

BILLING CODE 7590-01-P